ENVIRONMENTAL PROTECTION AGENCY

40 CFR Part 52

[TX-139-1-7535; FRL-7137-4]

Proposed Approval and Promulgation of Implementation Plans; Texas; Agreed Orders with Airlines and Memoranda of Agreement with Airport Owners and Operators Regarding Control of Pollution from Airport Ground Support Equipment for the Dallas/Fort Worth Ozone Nonattainment Area

AGENCY: Environmental Protection Agency (EPA).

ACTION: Proposed rule.

SUMMARY: The EPA proposes to approve Agreed Orders and Memoranda of Agreement (MOA) requiring airlines and owners and operators at major airports in the Dallas/Fort Worth (DFW) area to reduce oxides of nitrogen (NOX) emissions from airport Ground support Equipment (GSE) under their control. In addition, the EPA proposes to approve revisions to the GSE emissions inventory. These Orders and MOAs will contribute to attainment of the ozone standard in the DFW area. The EPA is proposing approval of these revisions to the Texas SIP to regulate emissions of NOX in accordance with the requirements of the Federal Clean Air Act.

DATES: Written comments must be received on or before March 6, 2002.

ADDRESSES: Written comments should be addressed to Mr. Thomas H. Diggs, Chief, Air Planning Section (6PD-L), at the EPA Region 6 Office listed below. Copies of documents relevant to this action are available for public inspection during normal business hours at the following locations. Anyone wanting to examine these documents should make an appointment with the appropriate office at least two working days in advance.

Environmental Protection Agency, Region 6, Air Planning Section (6PD-L), 1445 Ross Avenue, Dallas, Texas 75202-2733. Texas Natural Resource Conservation Commission, Office of Air Quality, 12124 Park 35 Circle, Austin, Texas 78753.

FOR FURTHER INFORMATION CONTACT: Herbert R. Sherrow, Jr., Air Planning Section (6PD-L), EPA Region 6, 1445 Ross Avenue, Dallas, Texas 75202-2733, telephone (214) 665-7237. e-mail: sherrow.herb@epa.gov.

SUPPLEMENTARY INFORMATION: Throughout this document “we,” “us,” and “our” refers to EPA.

What Is the Background for This Action?

On April 19, 2000, the Texas Natural Resource Conservation Commission (TNRCC) adopted a rule that required reductions of NOX emissions attributable to GSE from the airports which have the most air carrier operations in the DFW area. The reductions required were up to 90% of the 1996 base inventory. The rule was submitted to us as a SIP revision on April 28, 2000.

On March 26, 2001, we proposed approval of a number of rules affecting the DFW area, which included the GSE rule and the reductions expected from the rule, 9.54 tpd. (66 FR 16432).

On May 23, 2001, the TNRCC repealed the GSE rule; therefore, we can not take final action on the rule. Subsequently, the TNRCC adopted Agreed Orders and MOAs with American Airlines, American Eagle Airlines, Delta Airlines, Southwest Airlines, the City of Dallas, the Dallas/Fort Worth International Airport Board, and the City of Fort Worth as substitutes for the repealed rule.

On July 2, 2001, the TNRCC submitted its repeal of the GSE rule and substitution of the Agreed Orders and MOAs to us as a SIP revision.

On October 15, 2001, the TNRCC submitted a SIP revision which showed the reductions expected from the Agreed Orders and MOAs to be 6.12 tpd in 2007 based on a revised emissions inventory of GSE. The TNRCC also submitted the revised inventory for approval.

What Is the Effect of the Orders and MOAs?

The rule required NOX reductions up to 90% of the 1996 emissions from GSE. The rule applied to the airlines operating at the Dallas/Forth Worth International Airport in Dallas and Tarrant Counties, Love Field in Dallas County, and Alliance and Meacham Airports in Tarrant County.

The Orders and MOAs were executed with the airlines and owners/operators at these airports as a substitute for the rule. The orders and MOAs mirror the rule in that they require up to 90% reductions of NOX from GSE from airports in the DFW area. The sum of reductions in the orders and MOAs from the airlines and the airport owners/operators is up to 90% of the 2007 base inventory.

The revised 2007 NOX emissions inventory is 6.8 tpd compared to the original inventory of 10.6 tpd; therefore, the reductions expected are 6.12 tpd. The inventory revision is the result of a more refined inventory of the GSE population at the airports in the DFW area. A study was conducted to survey actual equipment at the major airports in the DFW area which refined the original estimate.

Please refer to the March 26, 2001, proposed Federal Register document for details of the emission reduction requirements from the rule and the TSD for this action for details of the emission reduction requirements from the Agreed Orders and MOAs and the revised inventory.

Proposed Action

We are proposing approval of the Agreed Orders and MOAs with airlines and airport owners and operators in the DFW ozone nonattainment area and the revised emission inventory and associated emission reduction requirements as a replacement for the rule we proposed to approve at 66 FR 16432 (March 26, 2001). The Orders and MOAs provide reductions that are equivalent to those that would have occurred under the rule, and are a federally enforceable mechanism to achieve NOX reductions necessary for the DFW attainment demonstration plan.

Administrative Requirements

Under Executive Order 12866 (58 FR 51735, October 4, 1993), this proposed action is not a “significant regulatory action” and therefore is not subject to review by the Office of Management and Budget. For this reason, this action is also not subject to Executive Order 13211, “Actions Concerning Regulations That Significantly Affect Energy Supply, Distribution, or Use” (66 FR 28355, May 22, 2001). This proposed action merely proposes to approve state law as meeting Federal requirements and imposes no additional requirements beyond those imposed by state law. Accordingly, the Administrator certifies that this proposed rule will not have a significant economic impact on a substantial number of small entities under the Regulatory Flexibility Act (5 U.S.C. 601 et seq.). Because this rule proposes to approve pre-existing requirements under state law and does not impose any additional enforceable duty beyond that required by state law, it does not contain any unfunded mandate or significantly or uniquely affect small governments, as described in the Unfunded Mandates Reform Act of 1995 (Pub. L. 104-4).

This proposed rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999). This action merely proposes to approve a state rule implementing a Federal standard, and does not alter the relationship or the distribution of power and responsibilities established in the Clean Air Act. This proposed rule also is not subject to Executive Order 13045 “Protection of Children from Environmental Health Risks and Safety Risks” (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. This proposed rule does not impose an information collection burden under the provisions of the Paperwork Reduction Act of 1995 (44 U.S.C. 3501 et seq.).

List of Subjects in 40 CFR Part 52

Environmental protection, Air pollution control, Intergovernmental relations, Nitrogen dioxide, Ozone, Reporting and recordkeeping requirements.

Authority: 42 U.S.C. 7401 et seq.

Dated: January 22, 2002.
Gregg A. Cooke,
Regional Administrator, Region 6.

[FR Doc. 02-2613 Filed 2-1-02; 8:45 am]

BILLING CODE 6560-50-P